DEPARTMENT OF TRANSPORTATION

Federal Aviation Administration

14 CFR Part 39

[Docket No. 2003-NM-216-AD]

RIN 2120-AA64

Airworthiness Directives; Raytheon Model BAe.125 series 800A (including C-29A and U-125 Variant) and 800B Airplanes; and Model Hawker 800 (including U-125A Variant), and 800XP Airplanes

AGENCY: Federal Aviation Administration, DOT.

ACTION: Notice of proposed rulemaking (NPRM).

SUMMARY: This document proposes the adoption of a new airworthiness directive (AD) that is applicable to certain Model BAe.125 series 800A (including C-29A and U-125 Variant) and 800B airplanes; and Model Hawker 800 (including U-125A Variant) and 800XP airplanes. This proposal would require a functional test of the engine fire extinguishing wiring for the appropriate installation; verification of the correct wiring connector installation; correction of wiring if necessary; and installation of new marker bands. This action is necessary to prevent incorrect wiring of the engine fire extinguisher bottles, which could result in one or both fire extinguisher bottles being discharged into the wrong engine nacelle. This action is intended to address the identified unsafe condition.

DATES: Comments must be received by April 12, 2004.

ADDRESSES: Submit comments in triplicate to the Federal Aviation Administration (FAA), Transport Airplane Directorate, ANM-114, Attention: Rules Docket No. 2003-NM-216-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-216-AD” in the subject line and need not be submitted in triplicate. Comments sent via the Internet as attached electronic files must be formatted in Microsoft Word 97 or 2000 or ASCII text.

The service information referenced in the proposed rule may be obtained from Raytheon Aircraft Company, Department 62, P.O. Box 85, Wichita, Kansas 67201-0085. This information may be examined at the FAA, Transport Airplane Directorate, 1601 Lind Avenue, SW., Renton, Washington; or at the FAA, Wichita Aircraft Certification Office, 1801 Airport Road, Room 100, Mid-Continent Airport, Wichita, Kansas.

FOR FURTHER INFORMATION CONTACT: Jeff Pretz, Aerospace Engineer, Airframe and Propulsion Branch, ACE-118W, FAA, Wichita Aircraft Certification Office, 1801 Airport Road, Room 100, Mid-Continent Airport, Wichita, Kansas 67209; telephone (316) 946-4153; fax (316) 946-4107.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-216-AD.” The postcard will be dated stamped and returned to the commenter.

Availability of NPRMs

Any person may obtain a copy of this NPRM by submitting a request to the FAA, Transport Airplane Directorate, ANM-114, Attention: Rules Docket No. 2003-NM-216-AD, 1601 Lind Avenue, SW., Renton, Washington 98055-4056.

Discussion

The FAA has received two reports of incorrectly wired engine fire extinguisher bottles on Raytheon Model Hawker 800XP airplanes. Investigation revealed that the wire connectors of the fire extinguisher are neither specifically designed to prevent the wiring from being installed incorrectly nor clearly identified for installation. The configuration allows for potential mis-wiring of the left and right discharge signal of the fire extinguisher from the cockpit to the fire extinguisher bottles during both production and maintenance activities. This condition, if not corrected, could result in one or both fire extinguisher bottles being discharged into the wrong engine nacelle.

The wire connectors of the fire extinguishers on certain Raytheon Model BAe.125 series 800A (including C-29A and U-125 variant) and 800B airplanes and Model Hawker 800 (including U-125 Variant) airplanes are identical to those on the affected Model Hawker 800XP airplanes. Therefore, all of these models may be subject to the same unsafe condition.

Explanation of Relevant Service Information

The FAA has reviewed and approved Raytheon Service Bulletin 26-3610, Revision 1, dated September 2003. The service bulletin describes procedures for a functional test of the engine fire extinguishing circuit for the approriate installation; verification of the correct wiring connector installation; correction of wiring if necessary; and installation of new marker bands. Accomplishment of the actions specified in the service bulletin is intended to adequately address the identified unsafe condition.

Explanation of Requirements of Proposed Rule

Since an unsafe condition has been identified that is likely to exist or develop on other products of this same type design, the proposed AD would require accomplishment of the actions specified in the service bulletin described previously, except as discussed below.

Difference Between Proposed Rule and Referenced Service Bulletin

Operators should note that, although the Accomplishment Instructions of the referenced service bulletin describe procedures for completing a sheet recording compliance with the service bulletin, this proposed AD would not require those actions. The FAA does not need this information from operators.

Cost Impact

There are approximately 615 airplanes of the affected design in the worldwide fleet. The FAA estimates that 430 airplanes of U.S. registry would be affected by this proposed AD, that it would take approximately 2 work hours per airplane to accomplish the proposed actions, and the average labor rate is $65 per work hour. Required parts would cost approximately $20 per airplane. Based on these figures, the cost impact of the proposed AD on U.S. operators is estimated to be $64,500, or $150 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions. The manufacturer may cover the cost of replacement parts associated with this proposed AD, subject to warranty conditions. Manufacturer warranty remedies may also be available for labor costs associated with this proposed AD. As a result, the costs attributable to the proposed AD may be less than stated above.

Regulatory Impact

The regulations proposed herein, would not have a substantial direct effect on the States, on the relationship between the National Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Raytheon Aircraft Company: Docket 2003-NM-216-AD.

Applicability: Model BAe.125 series 800A (including C-29A and U-125 variant) and 800B airplanes; and Model Hawker 800 (including U-125A variant) and 800XP airplanes; as listed in Raytheon Service Bulletin 26-3610, Revision 1, dated September 2003; certificated in any category.

Compliance: Required as indicated, unless accomplished previously.

To prevent incorrect wiring of the engine fire extinguisher bottles, which could result in one or both fire extinguisher bottles being discharged into the wrong engine nacelle, accomplish the following:

Function Test, Verification, Installation, and Corrective Action

(a) Within 70 flight hours or 30 days after the effective date of this AD, whichever occurs first, do the actions specified in paragraphs (a)(1) and (a)(2) of this AD per the Accomplishment Instructions of Raytheon Service Bulletin 26-3610, Revision 1, dated September 2003.

(1) Perform a functional test of the engine fire extinguishing wiring for appropriate installation, and verify the correct wiring connector installation. If any connector is wired incorrectly, prior to further flight, correct the wiring.

(2) Install the new marker bands.

Exception to Service Bulletin

(b) Although the service bulletin referenced in this AD specifies to submit certain information to the manufacturer, this AD does not include such a requirement.

Alternative Methods of Compliance

(c) In accordance with 14 CFR 39.19, the Manager, Wichita Aircraft Certification Office, FAA, is authorized to approve alternative methods of compliance for this AD.

Issued in Renton, Washington, on February 20, 2004.
Ali Bahrami,
Acting Manager, Transport Airplane Directorate, Aircraft Certification Service.

[FR Doc. 04-4256 Filed 2-25-04; 8:45 am]

BILLING CODE 4910-13-M